DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 36104-36105 dated June 24, 2010).

This notice reflects organizational changes in the Health Resources and Services Administration. Specifically, this notice updates functional statement for the Maternal and Child Health Bureau (RM) by adding functions for programs authorized under the Affordable Care Act, and renames the Office of Data and Program Development (RM7) to the Office of Epidemiology, Policy and Evaluation (RM7).

Chapter RM—Maternal and Child Health Bureau

Section RM-10, Organization

Delete in its entirety and replace with the following:

The Office of the Associate Administrator (RM) is headed by the Associate Administrator, Maternal and Child Health Bureau (MCHB), who reports directly to the Administrator, Health Resources and Services Administration. MCHB includes the following components:

(1) Office of the Associate Administrator (RM);

(2) Office of Operation and Management (RM1);

(3) Division of Services for Children with Special Health Needs (RM2);

(4) Division of Child, Adolescent and Family Health (RM3);

(5) Division of Research, Training and Education (RM4);

(6) Division of Healthy Start and Perinatal Services (RM5);

(7) Division of State and Community Health (RM6); and

(8) Office of Epidemiology, Policy and Evaluation (RM7).

Section RM-20, Functions

(1) Delete the functional statement for the Maternal and Child Health Bureau (RM) and replace in its entirety; and (2) rename the Office of Data and Program Development (RM7) to the Office of Epidemiology, Policy and Evaluation (RM7).

Office of the Associate Administrator (RM)

Provides national leadership and policy direction for Maternal and Child Health Bureau (MCHB) programs. These programs are designed to improve the health of women of childbearing age, infants, children, adolescents and their families, children with special health needs, and persons with hemophilia. Specifically, MCHB: (1) Coordinates the planning, development, implementation, and evaluation of the programs and activities of the Bureau; (2) facilitates effective, collaborative relationships with other health and related programs; (3) establishes a program mission, goals, objectives, and policy with broad Administration guidelines; (4) serves as the focal point for managing the Bureau-wide strategic planning operation as it relates to long and short range programmatic goals and objectives for the Bureau; (5) arranges and provides technical assistance to assure that the grantees meet program expectations; (6) serves as principal contact point to HRSA, the Department, Office of Management and Budget (OMB), and the White House on matters concerning the health status of America's mothers and children; and (7) provides information and reports on the Bureau's programs to public, health, education and related professional associations, the Congress, other Federal agencies, OMB, and the White House.

Office of Operations and Management (RM1)

The Office of Operations and Management (OOM) plans, directs, coordinates, and evaluates Bureau-wide administrative and management activities; coordinates and monitors program and administrative policy implementation, and maintains close liaison with officials of HRSA and the Office of the Secretary on matters relating to these activities. Specifically, OOM: (1) Serves as the Associate Administrator's and Bureau's principal source for management and administrative advice and assistance; (2) provides or serves as liaison for program support services; (3) provides leadership on intergovernmental activities of the Bureau which requires administrative direction or intergovernmental activities of the Bureau, requiring central direction of cross-cutting administrative issues affecting program activities; (4) participates in the development of strategic plans, regulatory activities, policy papers, and legislative proposals relating to MCH programs; (5) plans, coordinates and facilitates the Bureau's Agency agreement activities; (6) coordinates human resource activities for the Bureau; (7) provides guidance to the Bureau on financial management activities; (8) determines State allocations of MCH Block Grant funds based on formula and current census data; (9) provides organization and management analysis, develops policies and procedures for internal operation, and interprets and implements the Administration's management policies, procedures and systems; (10) coordinates the Bureau's program and administrative delegations of authority activities; (11) provides staff services in operation planning and program analysis; (12) is responsible for paperwork management functions, including the development and maintenance of Bureau manual issuances; (13) provides direction regarding new developments in office management activities; and (14) coordinates Bureau funds and resources for grants, contracts and cooperative agreements.

Division of Services for Children With Special Health Needs (RM2)

The Division of Services for Children with Special Health Needs (DSCSHN) provides national leadership in planning, directing, coordinating, monitoring, and evaluating national programs focusing on the promotion of health and prevention of disease among children with special health care needs (CSHCN) and their families, with special emphasis on the development and implementation of family-centered, comprehensive, care-coordinated, community-based and culturally competent systems of care for such populations. Specifically, DSCSHN carries out the following activities: (1) Administers a program that supports the development of systems of care and services for CSHCN and their families; (2) develops policies and guidelines and promulgates standards for professional services and effective organization and administration of health programs for CSHCN and their families; (3) accounts for the administration of funds and other resources for grants, contracts and programmatic consultation and assistance; (4) coordinates with other MCHB Divisions and Offices in promoting program objectives and the mission of the Bureau; (5) provides consultation and technical assistance to State programs for CSHCN and to local communities, consistent with a Bureau-wide technical assistance consultation plan and in concert with other agencies and organizations; (6) provides liaison with public, private, professional and voluntary organizations on programs designed to improve services for CSHCN and their families; (7) develops and implements a national program for those at risk or living with genetic diseases, including a national program for persons with hemophilia, implementing a system of demonstration projects related to early identification, referral, treatment, education, and counseling information; (8) coordinates within this Agency and with other Federal programs (particularly Title XIX of the Social Security Act, Supplemental Security Income, Individuals with Disabilities Education Act, and others) to extend and improve comprehensive, coordinated services and promote integrated State-based systems of care for CSHCN, including those with genetic disorders, and their families; (9) promotes the dissemination of information on preventive health services and advances in the care and treatment of CSHCN, including those with genetic disorders, and their families; (10) participates in the development of strategic plans, regulatory activities, policy papers, legislative proposals, and budget submissions relating to health services for CSHCN, including those with genetic disorders, and their families; (11) provides a focus for international health activities of the Bureau for services for CSHCN and their families; (12) participates in the development of interagency agreements concerning Federal assignees to State MCHB programs; (13) carries out a national program on traumatic brain injury, and (14) administers funds and other resources for grants, contracts, and cooperative agreements.

Division of Child, Adolescent, and Family Health (RM3)

The Division of Child, Adolescent, and Family Health provides national leadership in planning, directing, coordinating, monitoring, and evaluating national programs focusing on the promotion of health and prevention of disease and injury among children, adolescents, young adults and their families with special emphasis on the development and implementation of family-centered, comprehensive, coordinated, community-based and culturally competent systems of care for such populations. Specifically, the Division: (1) Administers a program which supports the development of systems of care and services for children, adolescents, young adults and their families; (2) develops policies and guidelines and promulgates standards for professional services and effective organization and administration of health programs for children, adolescents, young adults and their families; (3) accounts for the administration of funds and other resources for grants, contracts, and programmatic consultation and assistance; (4) coordinates with MCHB Divisions and Offices in promoting program objectives and the mission of the Bureau; (5) serves as the focal point within the Bureau in implementing programmatic statutory requirements for State programs for children, adolescents, young adults and their families; (6) provides consultation and technical assistance to State programs for children, adolescents, young adults and their families and to local communities, consistent with a Bureau-wide technical assistance consultation plan, working with other agencies and organizations; (7) provides liaison with public, private, professional and voluntary organizations on programs designed to improve services for children, adolescents, young adults and their families; (8) carries out a national program supporting Child Death Review systems; (9) carries out a national program on school health activities; (10) carries out a national program designed to improve the provision of emergency medical services for children; (11) carries out a national program designed to improve the provision of oral health services for children; (12) carries out a national program on injury prevention for children and adolescents; (13) coordinates within this Agency and with other Federal programs (particularly Title XIX of the Social Security Act) to extend and improve comprehensive, coordinated services and promote integrated State-based systems of care for children, adolescents, young adults and their families; (14) disseminates information on preventive health services and advances in the care and treatment of children, adolescents, young adults and their families; (15) participates in the development of strategic plans, regulatory activities, policy papers, legislative proposals, and budget submissions relating to health services for children, adolescents, young adults and their families; (16) provides a focus for international health activities for the Bureau for services for children, adolescents, and their families; (17) carries out, in collaboration with the Administration for Children and Families, a national program of maternal, infant and early childhood home visiting; and (18) administers funds and other resources for grants, contracts, and cooperative agreements.

Division of Research, Training and Education (RM4)

The Division of Research, Training and Education provides national leadership in planning, directing, coordinating, monitoring, and evaluating national programs related to research, professional and public education activities, and training, focusing on the promotion of health and prevention of disease among women of reproductive age, infants, children, adolescents and their families, with special emphasis on the development and implementation of family-centered, comprehensive, care-coordinated, community-based and culturally competent systems of care for such population. Specifically, the Division carries out the following activities: (1) Administers a program which supports the development of systems of care and services for children and their families; (2) develops policies and guidelines and promulgates standards through research, professional and public education and training activities for the Bureau; (3) accounts for the administration of funds and other resources for grants, contracts and programmatic consultation and assistance; (4) coordinates with other MCHB Divisions and Offices in promoting program objectives and the mission of the Bureau; (5) provides liaison with public, private, professional and voluntary organizations on programs and activities; (6) disseminates information on research, professional and public education and training activities to States and localities; (7) participates in the development of strategic plans, regulatory activities, policy papers, legislative proposals, and budget submissions; (8) provides a focus for international health activities of the Bureau relating to research, professional and public education and training activities for the Bureau; and (9) administers funds and other resources for grants, contracts, and cooperative agreements.

Division of Healthy Start and Perinatal Services (RM5)

The Division of Healthy Start and Perinatal Services provides national leadership in planning, directing, coordinating, monitoring, and evaluating national programs focusing on maternal, infant, family, and women's health to improve and strengthen the awareness of, access, delivery, quality, coordination and evidence-based for services for targeted populations, especially for the vulnerable and those at high-risk for poor health and health outcomes. The Division strives to eliminate health disparities and provide high quality continuous health care, including health promotion and disease prevention, throughout the lifespan of women and their families from infancy to preconception, prenatal, postpartum, and inter-conception through support of local, State, and national innovative, evidenced-based projects of health promotion and risk reduction. Specifically, the Division is responsible for the following activities: (1) Administers local, State, and national programs on perinatal and women's health with an emphasis on infant mortality reduction and eliminating disparities in perinatal infant, maternal and women's health outcomes; (2) provides policy direction; technical assistance; national resource development and dissemination; professional consultation and development to address national trends in maternal, infant, family, and women's health status and gaps in the evidence-based of the healthcare services for these populations as well as Division programs; (3) accounts for the administration of funds and other resources for grants, contracts and programmatic consultation and assistance; (4) coordinates with Bureau, Agency, departmental, and Intra-Departmental initiatives in promoting Division programs' objectives and the mission of the Bureau; (5) serves as the focal point within the Agency and frequently the Department on programmatic infant, maternal, and women's health initiatives (6) coordinates the Advisory Committee on Infant Mortality, (7) provides liaison with public, private, professional and non-governmental organizations for Division programs; (8) disseminates information on Division programs to the local, State, national and international audiences; (9) participates in the development of strategic plans, health services research and evaluation, regulatory activities, policy papers, legislative proposals, and fiscal strategic planning, administration, and analysis relating to Division programs; (10) provides a focus for international health activities of the Bureau for Division programs in perinatal, infant, maternal and women's health; (11) provides leadership, technical assistance and professional consultation to Central and Regional Office staff of the Bureau, Agency, Department, other Federal agencies, students and allied groups to improve services; and (12) administers funds and other resources for grants, contracts, and cooperative agreements.

Division of State and Community Health (RM6)

In collaboration with MCHB Divisions and Offices, the Division of State and Community Health (DSCH) serves as the organizational focus for the administration of responsibilities related to the Maternal and Child Health (MCH) Block Grant to States Program. Specifically, DSCH: (1) Works in partnership with States, primarily through the Title V Block Grant, communities, and grantees to assure continued improvement in the health, safety and well-being of the MCH population; (2) provides national leadership, direction, coordination, and administrative oversight related to the development and management of the State MCH Block Grant applications and the annual reports; (3) based on independent and high quality evaluations and reviews, which includes the tracking of State progress in meeting performance objectives, develops, plans, manages, and monitors a Bureau-wide program of technical assistance and consultation in collaboration with other Bureau Divisions and related health programs; (4) develops and manages an online information system to facilitate in the collection, analysis and dissemination of national and State performance, program and financial State Title V information and data to various constituencies including the public, States, and Congress about the Block Grant to States Program; (5) coordinates within this Agency and with other Federal programs (particularly Title XIX of the Social Security Act) to extend and improve comprehensive, coordinated services in the Block Grant to States Program; (6) develops, plans, manages, and monitors the State Systems Development Initiative (SSDI) grant to the States' program; (7) develops, plans, manages and monitors contracts, grants, and cooperative agreements, including the Partnership for State Title V MCH Leadership Community, Partnership for Urban MCH Leadership Community and State Public Health Coordinating Center for Autism Cooperative Agreements; (8) participates in the development of strategic plans, regulatory activities, policy papers, legislative proposals and budget submissions relating to health services for women of childbearing age, infants, children, adolescents, children with special health care needs and their families; and (9) develops guidance and reporting forms for the State Title V MCH Block Grant Applications/Annual Reports and Five-Year Needs Assessments and other discretionary grants and cooperative agreements.

Office of Epidemiology, Policy and Evaluation (RM7)

The Office of Epidemiology, Policy and Evaluation provides leadership in the following two areas: (1) Identifies and analyzes data needs and utilizes and implements a data strategy and program focusing on the promotion of health and prevention of disease among women of reproductive age, infants, children, adolescents and their families with special emphasis on the development and implementation of family centered, comprehensive, coordinated care, community-based and culturally competent systems of care for such populations; (2) serves as the Bureau focal point for the management of the planning, evaluation, legislation, and legislative implementation activities, including the development, coordination, and dissemination of program objectives, policy positions, reports and strategic plans. Specifically, the Office carries out the following data functions: (1) Develops, coordinates, and maintains a data and information system designed to improve implementation of Title V and other Bureau programs; (2) develops, coordinates, and implements systematic technical assistance and consultation on data and information systems and evaluation approaches to State and local agencies and organizations or groups concerned with infants, children, adolescents, and CSHCN; (3) through grants and contracts, provides support for a broad range of data collection, analyses and projects designed to improve the health status of infants, children, adolescents, and CSHCN; (4) coordinates and provides professional consultation and technical assistance to State and local agencies and organizations; (5) develops, coordinates and disseminates data; (6) plans, implements and monitors a system of placement of Federal employees assigned to State health agencies; (7) coordinates and monitors the placement of Centers for Disease Control and Prevention sponsored epidemiologists in State agencies; and (8) provides for data program coordination at all levels of Bureau program operations through analyses of program data, trends and other issues concerning scientific and policy matters, the provision of health services and data and information related to the promotion of health and prevention of disease among infants, children, adolescents, and CSHCN.

In addition, the Office carries out the following program development functions:

(1) Advises and assists the Associate Administrator for Maternal and Child Health and other Bureau staff in the development, coordination and management of strategic planning and policy documents, responses to departmental and HRSA initiatives, and information papers to support Bureau and Administration goals; (2) interprets evaluation requirements and develops, coordinates, and manages the preparation of the annual evaluation plans and activities, and conducts or contracts for specific evaluation projects related to the performance of MCHB programs; (3) develops, coordinates, and manages Bureau activities related to the development, clearance, and dissemination of Federal Register notices, guidelines, final grant reports, and periodic and annual reports to other Federal and non-Federal agencies; (4) participates in the development of budget submissions including the Government Performance Review Act annual performance plan and the Office of Management and Budget Program Assessment Review Tool; (5) coordinates activities closely and continuously with the Office of Planning, Analysis and Evaluation and the MCHB Divisions and Offices in promoting program objectives and the mission of the Bureau; (6) provides liaison with public, private, professional, and voluntary organizations on programs related to MCHB planning and legislative issues; and (7) participates in international health activities of the Bureau.

Section RM-30, Delegations of Authority

All delegations of authority and re-delegations of authority made to HRSA officials that were in effect immediately prior to this reorganization, and that are consistent with this reorganization, shall continue in effect pending further re-delegation.

This reorganization is upon date of signature.

Dated: August 5, 2010.
Mary K. Wakefield,
Administrator.

[FR Doc. 2010-19863 Filed 8-11-10; 8:45 am]

BILLING CODE 4165-15-P